CONSUMER PRODUCT SAFETY COMMISSION

[Docket Number CPSC-2021-0035]

Privacy Act of 1974; System of Records

AGENCY: Consumer Product Safety Commission.

ACTION: Notice of modified system of records.

SUMMARY: Pursuant to the Privacy Act of 1974, the Consumer Product Safety Commission (CPSC) is proposing changes to one system of records notice (SORN). CPSC is proposing to amend CPSC 23—Equal Employment Opportunity (EEO) Disability/Accommodation Files. The amendment will expand the authorities for maintenance of the system, the purposes of the system, the categories of individuals covered by the system, the record source categories, and the records contained in the system, to include records of requests for accommodation based on sincerely held religious beliefs, practices, or observances.

DATES: Comments must be received no later than January 19, 2022. The modified system of records described here will become effective January 19, 2022.

ADDRESSES: Comments, identified by Docket No. CPSC-2021-0035, can be submitted electronically or in writing:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, described above.

Written Submissions: Submit written submissions by Mail/Hand delivery/Courier (for paper, disk, or CD-ROM submissions) to the Office of the General Counsel, Division of the Secretariat, Consumer Product Safety Commission, 4330 East West Highway, Bethesda, MD 20814; telephone: (800) 638-2772.

Instructions: All submissions received must include the agency name and docket number for this rulemaking. All comments received will be posted without change to: http://www.regulations.gov, including any personal information provided. Do not submit electronically any confidential business information, trade secret information, or other sensitive or protected information that you do not want to be available to the public. If you wish to provide such information, please submit it in writing.

Docket: For access to the docket to read background documents or comments received, go to http://www.regulations.gov and insert the docket number, CPSC-2021-0034, into the “Search” box, and follow the prompts.

FOR FURTHER INFORMATION CONTACT: Abioye Mosheim, Assistant General Counsel, Consumer Product Safety Commission, Office of the General Counsel, Division of the Secretariat, telephone 301-504-7454, 4330 East West Highway, Bethesda MD 20814.

SUPPLEMENTARY INFORMATION: CPSC is proposing to amend the authorities for maintenance of the system, purposes of the system, the categories of records contained in the system, the categories of individuals covered by the system, the record source categories, a citation in the Routine Uses section, a citation in the Record Access Procedures section, and a citation in the Contesting Records Procedures section of CPSC 23—Equal Employment Opportunity (EE) Disability/Accommodation Files.¹

¹ The Commission voted unanimously (4-0) to publish this notice.

CPSC is updating the System Location by adding, “U.S.” to agency's title. CPSC expanded the Categories of Individuals Covered by the System beyond the Rehabilitation Act and the Americans with Disabilities Act to include “race, color, religion, sex (including gender identity and pregnancy), national origin, disability, age, genetic information, sexual orientation, parental status, and/or any basis covered by Executive Order 11478.” Categories of Records in the System now includes supporting documentation, in addition to correspondence. The Authority Section was expanded beyond the Rehabilitation Act and the Americans with Disabilities Act to include Title VII of the Civil Rights Act, relevant Executive Orders, and CPSC's EEO Directive. The Purposes were expanded to cover religious beliefs, in addition to disabilities, as well as prospective, current, and former employees; and to provide more detail. The Routine Uses now refer to the 12 exceptions found in the Privacy Act, as well as additional circumstances that require sharing information with external entities, including medical personnel, other federal agencies not already referenced in the Privacy Act exceptions, and contractors. The Retention section was changed to refer generally to the National Archives and Record Administration applicable records-retention requirements if the timeframe changes later. Other minor changes were made, including formatting and title corrections.

CPSC sent a report to Congress and the Office of Management and Budget for their evaluation.

For the public's convenience, CPSC's amended system of records is published in full below, with changes italicized.

SYSTEM NAME AND NUMBER:

CPSC-23, Equal Employment Opportunity (EEO) Disability/Accommodation Files.

SECURITY CLASSIFICATION:

None.

SYSTEM LOCATION:

Office of Equal Employment Opportunity and Minority Enterprise, U.S. Consumer Product Safety Commission, 4330 East-West Highway, Bethesda, MD 20814.

SYSTEM MANAGER(S):

Director, Office of Equal Employment Opportunity and Minority Enterprise, U.S. Consumer Product Safety Commission, 4330 East-West Highway, Bethesda, MD 20814.

AUTHORITY FOR MAINTENANCE OF THE SYSTEM:

Executive Order 14043, Requiring Coronavirus Disease 2019 Vaccination for Federal Employees (Sept. 9, 2021), Executive Order 13991, Protecting the Federal Workforce and Requiring Mask-Wearing (Jan. 20, 2021), Executive Order 12196, Occupational Safety and Health Program for Federal Employees (Feb. 26, 1980), Executive Order 11478 (Aug. 8, 1969), 5 U.S.C. chapters 11 and 79, the Rehabilitation Act, 29 U.S.C. 794, the Americans with Disabilities Act, 42 U.S.C. 12101, Title VII of the Civil Rights Act of 1964, 42 U.S.C. 2000e, and CPSC's Directive on Equal Employment Opportunity and Procedures for Filing Complaints of Discrimination.

PURPOSES OF THE SYSTEM:

The purposes of this system are: (1) To allow CPSC to collect and maintain records on prospective, current, and former employees with disabilities or sincerely held religious beliefs, practices, or observances who requested or received reasonable accommodation by CPSC; (2) to track and report the processing of requests for reasonable accommodation at CPSC to comply with applicable law and regulations; and (3) to maintain the confidentiality of medical or religious information submitted by or on behalf of applicants or employees requesting reasonable accommodation.

CATEGORIES OF INDIVIDUALS COVERED BY THE SYSTEM:

Individuals, classes of individuals, or representatives designated to act on behalf of CPSC employees, former employees, or applicants for employment who have (1) consulted with an Equal Employment Opportunity (EEO) counselor and/or (2) who have filed a formal complaint alleging discrimination on the basis of race, color, religion, sex (including gender identity and pregnancy), national origin, disability, age, genetic information, sexual orientation, parental status and/or any basis covered by Executive Order 11478, because of a determination, decision, action, or non-action administered against them by a departmental official, as well as individuals alleging reprisal for having previously participated in EEO activity and/or (3) who have filed a request for a medical or religious reasonable accommodation.

CATEGORIES OF RECORDS IN THE SYSTEM:

Correspondence and supporting documentation submitted to the Commission to request reasonable accommodations. Records contain information such as name, address, city, state, telephone number and other pertinent information related to the individual's request for reasonable accommodation.

RECORD SOURCE CATEGORIES:

Information in these records is furnished by: (1) Individual to whom the record pertains; (2) CPSC officials; (3) affidavits or statements from employee; (4) testimonies of witnesses; (5) official documents relating to appeals, grievances, or complaints; (6) correspondence from specific organizations or persons.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b), and:

1. To physicians or other medical professionals to provide them with or obtain from them the necessary medical documentation and/or certification for reasonable accommodation.

2. To another federal agency or commission with responsibility for labor or employment relations or other issues, including equal employment opportunity and reasonable accommodation issues, when that agency or commission has jurisdiction over reasonable accommodation issues.

3. To the Office of Management and Budget (OMB), Department of Labor (DOL), Office of Personnel Management (OPM), Equal Employment Opportunity Commission (EEOC), or Office of Special Counsel (OSC) to obtain advice regarding statutory, regulatory, policy, and other requirements related to reasonable accommodations.

4. To appropriate third-parties contracted by the Agency to facilitate mediation or other dispute resolution procedures or programs.

5. To the Department of Defense (DOD) for purposes of procuring assistive technologies and services through the Computer/Electronic Accommodation Program in response to a request for reasonable accommodation.

6. To appropriate agencies, entities, and persons when (1) CPSC suspects or has confirmed that there has been a breach of the system of records, (2) CPSC has determined that as a result of the suspected or confirmed breach there is a risk of harm to individuals, CPSC (including its information systems, programs, and operations), the Federal Government, or national security; and (3) the disclosure made to such agencies, entities, and persons is reasonably necessary to assist in connection with CPSC's efforts to respond to the suspected or confirmed breach or to prevent, minimize, or remedy such harm.

7. To another Federal agency or Federal entity, when CPSC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records will be maintained in hard copy in file folders or on computer disk/drive.

POLICIES AND PRACTICES FOR RETRIEVAL OF RECORDS:

Records will be indexed and retrieved by name.

POLICIES AND PRACTICES FOR RETENTION AND DISPOSAL OF RECORDS:

Records are maintained and destroyed in accordance with the National Archives and Record Administration's (NARA) Basic Laws and Authorities (44 U.S.C. 3301, et seq.) or a CPSC records disposition schedule approved by NARA. Records existing on paper are destroyed beyond recognition.

ADMINISTRATIVE, TECHNICAL, AND PHYSICAL SAFEGUARDS:

Records are maintained in locked/password protected files in a secured environment; access is limited to those persons whose official duties require such access.

RECORD ACCESS PROCEDURES:

CPSC's access and amendment regulations are found at 16 CFR part 1014. Inquiries should be sent to CPSC's Chief FOIA Officer, Office of the General Counsel, Division of the Secretariat, U.S. Consumer Product Safety Commission, 4330 East West Highway, Bethesda, MD 20814.

CONTESTING RECORD PROCEDURES:

Same as notification.

NOTIFICATION PROCEDURES:

Same as notification.

EXEMPTIONS PROMULGATED FOR THE SYSTEM:

None.

HISTORY:

CPSC-23, Equal Employment Opportunity (EEO) Disability/Accommodation files (last published at 77 FR 29596 (May 18, 2012)).

Dated: December 14, 2021.
Alberta Mills,
Secretary, U.S. Consumer Product Safety Commission.

[FR Doc. 2021-27438 Filed 12-17-21; 8:45 am]

BILLING CODE 6355-01-P